DEPARTMENT OF THE INTERIOR

National Park Service

[NPS-WASO-NAGPRA-NPS0039516; PPWOCRADN0-PCU00RP14.R50000]

Notice of Intended Repatriation: University of Tennessee, McClung Museum of Natural History & Culture, Knoxville, TN

AGENCY: National Park Service, Interior.

ACTION: Notice.

SUMMARY: In accordance with the Native American Graves Protection and Repatriation Act (NAGPRA), the University of Tennessee, McClung Museum of Natural History & Culture (UTK), intends to repatriate certain cultural items that meet the definition of unassociated funerary objects and that have a cultural affiliation with the Indian Tribes or Native Hawaiian organizations in this notice.

DATES: Repatriation of the cultural items in this notice may occur on or after April 17, 2025.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in the summary or related records. The National Park Service is not responsible for the determinations in this notice.

Abstract of Information Available

A total of 57 lots of cultural items have been requested for repatriation. The 57 unassociated funerary objects are 28 lots of ceramics, 27 lots of lithics, one lot of faunal remains, and one lot of minerals. These funerary objects were removed from 40SW20, the “Indian Bluff” site, in Stewart County, TN. They were removed between July-October 1939, by Works Progress Administration (WPA) crews under the direction of George W. Brainerd. After the 1939 excavation, they were transferred to UTK. 40SW20 was a Mississippian Period, “Middle Cumberland Culture” (~1000-1425 CE) site consisting of a mostly stone box cemetery and a village on the east bank of the Cumberland River. Cultural affiliation was determined through Tribal consultation. In consultation, The Chickasaw Nation communicated their cultural affiliation and specifically referenced geographic and historic information: Treaty with the United States and the Chickasaws, 1805, which shows that Stewart County, TN is part of the aboriginal homeland of the Chickasaw people. To our knowledge, no potentially hazardous substances were used to treat any of these objects.

Determinations

UTK has determined that:

• The 57 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and The Chickasaw Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 17, 2025. If competing requests for repatriation are received, UTK must determine the most appropriate requestor prior to repatriation. Requests for joint repatriation of the cultural items are considered a single request and not competing requests. UTK is responsible for sending a copy of this notice to the Indian Tribes and Native Hawaiian organizations identified in this notice and to any other consulting parties.

Authority: Native American Graves Protection and Repatriation Act, 25 U.S.C. 3004 and the implementing regulations, 43 CFR 10.9.

Dated: February 11, 2025.
Melanie O'Brien,
Manager, National NAGPRA Program.

[FR Doc. 2025-04382 Filed 3-17-25; 8:45 am]

BILLING CODE 4312-52-P